DEPARTMENT OF ENERGY

Federal Energy Regulatory Commission

Combined Notice of Filings #1

Take notice that the Commission received the following exempt wholesale generator filings:

Docket Numbers: EG22-51-000.

Applicants: Waiawa Solar Power LLC.

Description: Notice of Self-Certification of Exempt Wholesale Generator Status.

Filed Date: 2/11/22.

Accession Number: 20220211-5036.

Comment Date: 5 p.m. ET 3/4/22.

Docket Numbers: EG22-52-000.

Applicants: Highland Solar Transco Interconnection LLC.

Description: Notice of Self-Certification of Exempt Wholesale Generator Status of Highland Solar Transco Interconnection LLC.

Filed Date: 2/11/22.

Accession Number: 20220211-5132.

Comment Date: 5 p.m. ET 3/4/22.

Docket Numbers: EG22-53-000.

Applicants: Madero Grid, LLC.

Description: Notice of Self-Certification of Exempt Wholesale Generator Status.

Filed Date: 2/11/22.

Accession Number: 20220211-5204.

Comment Date: 5 p.m. ET 3/4/22.

Docket Numbers: EG22-54-000.

Applicants: Ignacio Grid, LLC.

Description: Notice of Self-Certification of Exempt Wholesale Generator Status.

Filed Date: 2/11/22.

Accession Number: 20220211-5205.

Comment Date: 5 p.m. ET 3/4/22.

Take notice that the Commission received the following electric rate filings:

Docket Numbers: ER21-2521-001.

Applicants: Broadlands Wind Farm LLC.

Description: Compliance filing: Informational Filing Pursuant to Sched. 2 of the MISO OATT & Request for Waiver to be effective N/A.

Filed Date: 2/11/22.

Accession Number: 20220211-5230.

Comment Date: 5 p.m. ET 3/4/22.

Docket Numbers: ER22-666-001.

Applicants: PJM Interconnection, L.L.C.

Description: Tariff Amendment: Correction to Amendment to ISA and ICSA, SA Nos. 4501 & 4502; Queue No. AA2-061 to be effective 6/30/2016.

Filed Date: 2/10/22.

Accession Number: 20220210-5193.

Comment Date: 5 p.m. ET 3/3/22.

Docket Numbers: ER22-1019-000.

Applicants: Powell River Energy Inc.

Description: Baseline eTariff Filing: Market-Based Rate Application to be effective 4/12/2022.

Filed Date: 2/10/22.

Accession Number: 20220210-5184.

Comment Date: 5 p.m. ET 3/3/22.

Docket Numbers: ER22-1020-000.

Applicants: Public Service Company of New Mexico.

Description: § 205(d) Rate Filing: Luna Pseudo-Tie Coordination Agreement, Rate Schedule No. 177 to be effective 3/8/2022.

Filed Date: 2/10/22.

Accession Number: 20220210-5199.

Comment Date: 5 p.m. ET 3/3/22.

Docket Numbers: ER22-1021-000.

Applicants: Southwest Power Pool, Inc.

Description: § 205(d) Rate Filing: 3915 Midway Wind Project and ITC Great Plains E&P Agreement to be effective 2/2/2022.

Filed Date: 2/11/22.

Accession Number: 20220211-5053.

Comment Date: 5 p.m. ET 3/4/22.

Docket Numbers: ER22-1022-000.

Applicants: Southwest Power Pool, Inc.

Description: § 205(d) Rate Filing: Revisions to Western Joint Dispatch Agreements to be effective 4/13/2022.

Filed Date: 2/11/22.

Accession Number: 20220211-5089.

Comment Date: 5 p.m. ET 3/4/22.

Docket Numbers: ER22-1023-000.

Applicants: Florida Power & Light Company.

Description: § 205(d) Rate Filing: Florida Power & Light Company Open Access Transmission Tariff Clean-Up to be effective 3/1/2022.

Filed Date: 2/11/22.

Accession Number: 20220211-5126.

Comment Date: 5 p.m. ET 3/4/22.

Docket Numbers: ER22-1024-000.

Applicants: MATL LLP.

Description: § 205(d) Rate Filing: Heartland-MATL TSR Filing to be effective 4/13/2022.

Filed Date: 2/11/22.

Accession Number: 20220211-5139.

Comment Date: 5 p.m. ET 3/4/22.

Docket Numbers: ER22-1025-000.

Applicants: PacifiCorp.

Description: § 205(d) Rate Filing: DG&T Agmt Re SS of Ancillary Serv Sched 5 and/or 6 to be effective 2/10/2022.

Filed Date: 2/11/22.

Accession Number: 20220211-5144.

Comment Date: 5 p.m. ET 3/4/22.

Docket Numbers: ER22-1026-000.

Applicants: Nevada Power Company.

Description: § 205(d) Rate Filing: Service Agreement No. 21-00083, NPC Powerex Agreement to be effective 4/1/2022.

Filed Date: 2/11/22.

Accession Number: 20220211-5161.

Comment Date: 5 p.m. ET 3/4/22.

Docket Numbers: ER22-1028-000.

Applicants: PJM Interconnection, L.L.C.

Description: § 205(d) Rate Filing: Amendment to WMPA, Service Agreement No. 4794; Queue No. AC1-116 to be effective 8/22/2017.

Filed Date: 2/11/22.

Accession Number: 20220211-5185.

Comment Date: 5 p.m. ET 3/4/22.

Docket Numbers: ER22-1029-000.

Applicants: Mid-Atlantic Interstate Transmission, LLC, PJM Interconnection, L.L.C.

Description: § 205(d) Rate Filing: Mid-Atlantic Interstate Transmission, LLC submits tariff filing per 35.13(a)(2)(iii: MAIT submits revised Interconnection Agreement, SA No. 4578 to be effective 4/13/2022.

Filed Date: 2/11/22.

Accession Number: 20220211-5189.

Comment Date: 5 p.m. ET 3/4/22.

Docket Numbers: ER22-1030-000.

Applicants: Evergy Kansas South, Inc.

Description: § 205(d) Rate Filing: Notice of Cancellation, Rate Schedule No. 160 to be effective 12/31/2021.

Filed Date: 2/11/22.

Accession Number: 20220211-5201.

Comment Date: 5 p.m. ET 3/4/22.

Docket Numbers: ER22-1031-000.

Applicants: PJM Interconnection, L.L.C.

Description: § 205(d) Rate Filing: Original CRA, Service Agreement No. 6357, Non-Queue No. NQ176 to be effective 1/12/2022.

Filed Date: 2/11/22.

Accession Number: 20220211-5203.

Comment Date: 5 p.m. ET 3/4/22.

Docket Numbers: ER22-1032-000.

Applicants: PJM Interconnection, L.L.C.

Description: § 205(d) Rate Filing: Original CRA, Service Agreement No. 6358, Non-Queue No. NQ178 to be effective 1/12/2022.

Filed Date: 2/11/22.

Accession Number: 20220211-5218.

Comment Date: 5 p.m. ET 3/4/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 11, 2022.
Kimberly D. Bose,
Secretary.

[FR Doc. 2022-03423 Filed 2-16-22; 8:45 am]

BILLING CODE 6717-01-P